DEPARTMENT OF AGRICULTURE

Food Safety and Inspection Service

[Docket No. FSIS-2012-0055]

Codex Alimentarius Commission: Meeting of the Codex Committee on Fats and Oils

AGENCY: Office of the Under Secretary for Food Safety, USDA.

ACTION: Notice of public meeting and request for comments.

SUMMARY: The Office of the Under Secretary for Food Safety, U.S. Department of Agriculture (USDA), and the Food and Drug Administration (FDA), Center for Food Safety and Applied Nutrition (CFSAN), are sponsoring a public meeting on February 5, 2013. The objective of the public meeting is to provide information and receive public comments on agenda items and draft United States (U.S.) positions that will be discussed at the 23rd Session of the Codex Committee on Fats and Oils (CCFO) of the Codex Alimentarius Commission (Codex), which will be held in Langkawi, Malaysia, February 25-March 1, 2013. The Under Secretary for Food Safety and FDA recognize the importance of providing interested parties the opportunity to obtain background information on the 23rd Session of the CCFO and to address items on the agenda.

DATES: The public meeting is scheduled for Tuesday, February 5, 2013, from 10:00 a.m. to 12:00 p.m.

ADDRESSES: The public meeting will be held at FDA, CFSAN, Harvey Wiley Building, Room 1A-002, 5100 Paint Branch Parkway, College Park, MD 20740. Documents related to the 23rd Session of the CCFO will be accessible via the World Wide Web at the following address: http://www.codexalimentarius.org/meetings-reports/en/.

Martin J. Stutsman, U.S. Delegate to the 23rd Session of the CCFO, invites U.S. interested parties to submit their comments electronically to the following email address: Martin.Stutsman@fda.hhs.gov.

Call-In Number:

If you wish to participate in the public meeting for the 23rd Session of the CCFO by conference call, please use the call-in number and participant code listed below:

Call-in Number: 1-888-858-2144

Participant Code: 6208658

FOR FURTHER INFORMATION ABOUT THE 23rd SESSION OF THE CCFO CONTACT: Martin Stutsman, J.D., Office of Food Safety, CFSAN, FDA, 5100 Paint Branch Parkway, College Park, MD 20740, Phone: +1(240) 402-1642, Fax: +1(301) 436-2651, Email: Martin.Stutsman@fda.hhs.gov.

FOR FURTHER INFORMATION ABOUT THE PUBLIC MEETING CONTACT: Marie Maratos, U.S. Codex Office, 1400 Independence Avenue SW., Room 4861, Washington, DC 20250, Phone: +1(202) 205-7760, Fax: +1(202) 720-3157, Email: Marie.Maratos@fsis.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure that fair practices are used in the food trade.

The CCFO is responsible for elaborating worldwide standards for fats and oils of animal, vegetable, and marine origin including margarine and olive oil.

The Committee is hosted by Malaysia.

Issues To Be Discussed at the Public Meeting

The following items on the agenda for the 23rd Session of the CCFO will be discussed during the public meeting:

• Matters Referred by the Codex Alimentarius Commission and Other Codex Committees

• Proposed Draft Standard for Fish Oils

• Proposed Draft Amendment to Parameters for Rice Bran Oil in the Standard for Named Vegetable Oils

• Discussion Paper on the Amendment of the Standard for Named Vegetable Oils: Sunflower Seed Oils

• Discussion Paper on Cold Pressed Oils

• Discussion Paper on the Amendment of the Standard for Named Vegetable Oils: High Oleic Soybean Oil

• Discussion Paper on the Amendment of the Standard for Named Vegetable Oils for the addition of Palm Oil with High Oleic Acid OxG

• Discussion Paper on the Revision of the Limit for Campesterol in the Codex Standard for Olive Oils and Olive Pomace Oils

• Discussion Paper on the Amendment of the Standard for Olive Oils and Olive Pomace Oils: Content of Delta-7-Stigmastenol

• Reference to Acceptance/Voluntary Application in Codex Standards

• Other Business and Future Work

Each issue listed will be fully described in documents distributed, or to be distributed, by the Secretariat prior to the meeting. Members of the public may access copies of these documents (see ADDRESSES).

Public Meeting

At the February 5, 2013, public meeting, draft U.S. positions on the agenda items will be described and discussed, and attendees will have the opportunity to pose questions and offer comments. Written comments may be offered at the meeting or sent to the U.S. Delegate for the 23rd Session of the CCFO, Martin Stutsman (see ADDRESSES). Written comments should state that they relate to activities of the 23rd Session of the CCFO.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/.

Options range from recalls to export information to regulations, directives, and notices. Customers can add or delete subscriptions themselves, and have the option to password protect their accounts.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, or audiotape.) should contact USDA's Target Center at 202-720-2600 (voice and TTY).

To file a written complaint of discrimination, write USDA, Office of the Assistant Secretary for Civil Rights, 1400 Independence Avenue SW., Washington, DC 20250-9410 or call 202-720-5964 (voice and TTY). USDA is an equal opportunity provider and employer.

Done at Washington, DC on: January 4, 2013.
Mary Frances Lowe,
U.S. Manager for Codex Alimentarius.

[FR Doc. 2013-01237 Filed 1-22-13; 8:45 am]

BILLING CODE 3410-DM-P